DEPARTMENT OF DEFENSE

Department of the Army, Corps of Engineers

Notice of Intent To Grant Exclusive License of the United States Patent No. 7,495,767 Issued February 24, 2009 Entitled: Digital Optical Method (DOM™) and System for Determining Opacity

AGENCY: Department of the Army, U.S. Army Corps of Engineers, DOD.

ACTION: Notice of intent.

SUMMARY: In accordance with 37 CFR 404.7(a)(1)(i), announcement is made of a prospective exclusive license of the following U.S. Patent Application 11/407,216 Filed April 20, 2006 to Byung J. Kim for use of the Digital Optical Method (DOM™) to quantify the opacity of fluids from digital photos.

DATES: Written objections must be filed not later than 15 days following publication of this announcement.

ADDRESSES: United States Army Engineer Research and Development Center, ATTN: CEERD-ZBT-O (Dr. Phoebe Lenear), 2902 Newmark Drive, Champaign, IL 61822-1076.

FOR FURTHER INFORMATION CONTACT: Dr. Phoebe Lenear, (217) 373-7234, FAX (217) 373-6740, email Phoebe.E.Lenear@usace.army.mil.

SUPPLEMENTARY INFORMATION: This patent claims a method for obtaining an accurate quantitative measure of the opacity of a fluid, comprising: Providing at least one image receiving device incorporating at least one light sensitive device; calibrating said image receiving devices, wherein said calibrating yields at least one response curve for each said image receiving devices, said response curve empirically based on a ratio of received radiances; employing at least one said image receiving device for taking images of said fluid, said images to include at least one background associated with said fluid; providing at least one algorithm based on a ratio of received radiances, said algorithm implemented in software on a computer readable medium; providing at least one processor for at least running said software; receiving and processing said image on at least one said processor; and analyzing said image using said algorithm and said software to obtain said measure of opacity, wherein said opacity may be measured under various ambient conditions, including measurement at night, and wherein said opacity may be measured under various ambient conditions without operator interpretation.

Brenda S. Bowen,
Army Federal Register Liaison Officer.

[FR Doc. 2016-04494 Filed 3-1-16; 8:45 am]

BILLING CODE 3720-58-P